DEPARTMENT OF TRANSPORTATION

Office of the Secretary

14 CFR Part 234

[Docket No. DOT-OST-2007-0022]

RIN No. 2105-AE02

Posting of Flight Delay Data on Web Sites

AGENCY: Office of the Secretary (OST), Department of Transportation (DOT).

ACTION: Direct Final Rule, request for comments.

SUMMARY: This direct final rule amends the time period for uploading flight performance information to an air carrier's Web site from anytime between the 20th and 23rd day of the month to the fourth Saturday of the month. The intended effect of this rule is to provide regulatory relief to industry by allowing carriers to follow standard industry practice of updating flight information such as schedule changes on Saturday. This action is necessary to address difficulties concerning implementation and compliance with the requirement to post flight delay data on carriers' Web sites. Moreover, this change would further the Department's goal of having all carriers upload flight information at the same time, thus ensuring passengers are comparing flight performance data from the same time period. The amendment contained in this rule is a minor substantive change, in the public interest, and unlikely to result in adverse comment.

DATES: This final rule is effective July 21, 2010, unless an adverse comment or notice to file an adverse comment is received by July 6, 2010. OST will publish in the Federal Register a timely document confirming the effective date of this final rule.

ADDRESSES: You may file comments identified by the docket number DOT-OST-2007-0022 by any of the following methods:

○ Federal eRulemaking Portal: go to http://www.regulations.gov and follow the online instructions for submitting comments.

○ Mail: Docket Management Facility, U.S. Department of Transportation, 1200 New Jersey Ave., SE., Room W12-140, Washington, DC 20590-0001.

○ Hand Delivery or Courier: West Building Ground Floor, Room W12-140, 1200 New Jersey Ave., SE., between 9 a.m. and 5 p.m. ET, Monday through Friday, except Federal Holidays.

○ Fax: (202) 493-2251.

Instructions: You must include the agency name and docket number DOT-OST-2007-0022 or the Regulatory Identification Number (RIN) for the rulemaking at the beginning of your comment. All comments received will be posted without change to http://www.regulations.gov, including any personal information provided.

Privacy Act: Anyone is able to search the electronic form of all comments received in any of our dockets by the name of the individual submitting the comment (or signing the comment if submitted on behalf of an association, a business, a labor union, etc.). You may review DOT's complete Privacy Act statement in the Federal Register published on April 11, 2000 (65 FR 19477-78), or you may visit http://DocketsInfo.dot.gov.

Docket: For access to the docket to read background documents or comments received, go to http://www.regulations.gov or to the street address listed above. Follow the online instructions for accessing the docket.

FOR FURTHER INFORMATION CONTACT: Blane A. Workie, Deputy Assistant General Counsel, Office of the Assistant General Counsel for Aviation Enforcement and Proceedings, U.S. Department of Transportation, 1200 New Jersey Ave., SE., Washington, DC 20590, 202-366-9342 (phone), 202-366-7152 (fax), blane.workie@dot.gov (e-mail).

SUPPLEMENTARY INFORMATION:

Background

The Department of Transportation requires that certificated air carriers that account for at least 1 percent of domestic scheduled passenger revenues (reporting carriers) provide certain flight delay data on their Web sites. Under that provision, a reporting carrier must display on its Web site between the 20th and 23rd day of the month the prior month's flight delay information for each flight it operates and for each flight its U.S. code-share partners operate for which schedule information is available. More specifically, the provision requires that reporting carriers provide on their Web sites the following on-time performance information: (1) The percentage of arrivals that were on time—i.e., within 15 minutes of scheduled arrival time; (2) the percentage of arrivals that were more than 30 minutes late (including special highlighting if the flight was more than 30 minutes late more than 50 percent of the time); and (3) the percentage of flight cancellations if 5 percent or more of the flight's operations were canceled in the month covered. The first time carriers must load the flight delay information onto their Web sites is between July 20 and 23, 2010, for June data.

On May 7, 2010, the Air Transport Association of America (ATA), the Regional Airline Association (RAA) and the Air Carrier Association of America (ACAA) submitted a joint petition to the Department requesting a change of the date to upload flight data from the 20th to the 23rd of the month, which sometimes does not fall on a Saturday, to a set Saturday, as this would allow carriers to follow standard industry practice of updating flight information such as schedule changes on Saturdays. In addition, the carrier associations requested that the specific date for uploading flight performance information on Web sites be the fourth Saturday of the month to avoid a conflict with the requirement to file other flight performance information with the Department's Bureau of Transportation Statistics (BTS) on the 15th day of the month, which at times falls on the third Saturday of the month. The carrier associations explain that carriers use the same technical personnel and resources for both activities and having the carriers file required BTS data and upload flight performance information to a carrier's Web site on the same day would increase their cost burdens. ATA, RAA, and ACAA are also concerned that if DOT were to require that Web sites be updated on the third Saturday of the month there would be certain months where the reporting carriers would be required to upload information on their Web sites before submitting the flight data to BTS. ATA, RAA, and ACAA represent all but one of the carriers covered by the requirement to post flight delay data. The only reporting carrier that is not represented by these associations is Mesa, and the carrier associations have indicated in their petition that Mesa supports their request.

In addition, this change in the rule would be beneficial to consumers as it would require carriers to load data for the previous month on a particular day instead of allowing carriers to load information on their Web site over several days, thereby ensuring passengers are better able to compare flight performance data. It is also worth noting that when we requested comment in the NPRM on the proposal that carriers load data for the previous month between the 20th and 23rd day of the current month, we received no comments. See 73 FR 74586 (December 8, 2008).

The Direct Final Rule Procedure

On January 30, 2004, OST published a final rule adopting direct final rulemaking procedures intended to expedite the rulemaking process for noncontroversial rules (69 FR 4455). By using direct final rulemaking, OST can reduce the time necessary to develop, review, clear and publish a rule to which no adverse public comment is anticipated by eliminating the need to publish separate proposed and final rules.

OST anticipates that this amendment will not result in adverse or negative comment and, therefore, is issuing it as a direct final rule. Unless a written adverse or negative comment, or a written notice of intent to submit an adverse or negative comment is received within the comment period, the regulation will become effective on the date specified above. In that event, after the close of the comment period OST will publish a document in the Federal Register indicating that no adverse or negative comments were received and confirming the date on which the final rule will become effective. If OST does receive, within the comment period, an adverse or negative comment, or written notice of intent to submit such a comment, a document withdrawing the direct final rule will be published in the Federal Register, and a notice of proposed rulemaking may be published with a new comment period.

Comments Invited

Interested parties are invited to participate in this rulemaking by submitting such written data, views, or arguments, as they may desire. Comments that provide the factual basis supporting the views and suggestions presented are particularly helpful in developing reasoned regulatory decisions on the proposal.

Regulatory Analyses and Notices

A. Executive Order 12866 (Regulatory Planning and Review) and DOT Regulatory Policies and Procedures

This final rule is not a significant regulatory action under Executive Order 12866 and the Department of Transportation's Regulatory Policies and Procedures. Accordingly, this final rule has not been reviewed by the Office of Management and Budget (OMB).

B. Regulatory Flexibility Act

Pursuant to section 605 of the Regulatory Flexibility Act (RFA), 5 U.S.C. 605(b), as amended by the Small Business Regulatory Enforcement and Fairness Act of 1996 (SBREFA), DOT certifies that this final rule does not have a significant economic impact on a substantial number of small entities. The final rule does not impose any duties or obligations on small entities.

C. Executive Order 13132 (Federalism)

This Final Rule does not have a substantial direct effect on the States, on the relationship between the national Government and the States, or on the distribution of power and responsibilities among the various levels of government, and therefore does not have federalism implications.

D. Executive Order 13084

This Final Rule has been analyzed in accordance with the principles and criteria contained in Executive Order 13084 (“Consultation and Coordination with Indian Tribal Governments”). Because the rule does not significantly or uniquely affect the communities of the Indian tribal governments or impose substantial direct compliance costs on them, the funding and consultation requirements of Executive Order 13084 do not apply.

E. Paperwork Reduction Act

The Paperwork Reduction Act of 1995 (PRA) (44 U.S.C. 3501 et seq.) requires that DOT consider the impact of paperwork and other information collection burdens imposed on the public and, under the provisions of PRA section 3507(d), obtain approval from the Office of Management and Budget (OMB) for each collection of information it conducts, sponsors, or requires through regulations. DOT has determined that there is no new information collection requirements associated with this final rule.

F. Unfunded Mandates Reform Act

The Department has determined that the requirements of Title II of the Unfunded Mandates Reform Act of 1995 do not apply to this Final Rule.

Issued June 16, 2010, in Washington, DC.
Ray LaHood,
Secretary of Transportation.

List of Subjects in 14 CFR Part 234

Air carriers, Consumer protection, Reporting and recordkeeping requirements.

For the reasons set forth in the preamble, the Department amends 14 CFR part 234 as follows:

PART 234—AIRLINE SERVICE QUALITY PERFORMANCE REPORTS

1. The authority citation for Part 234 continues to read as follows:

Authority: 49 U.S.C. 329 and chapters 401 and 417.

2. In § 234.11, revise paragraph (c) to read as follows:

§ 234.11 Disclosure to consumers.

* * * * *

(c) The first time each carrier must load the information whose disclosure is required under paragraphs (a) and (b) of this section onto its Web site is on Saturday, July 24, 2010, for June data. Carriers must load all subsequent flight performance information on the fourth Saturday of the month following the month that is being reported.

* * * * *

[FR Doc. 2010-15000 Filed 6-17-10; 11:15 am]

BILLING CODE 4910-9X-P